DEPARTMENT OF DEFENSE

Office of the Secretary

[Transmittal No. 24-23]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-23, Policy Justification, and Sensitivity of Technology.

Dated: December 31, 2024.
Stephanie J. Bost,
Alternate OSD Federal Register Liaison Officer, Department of Defense.

BILLING CODE 6001-FR-P

BILLING CODE 6001-FR-C

Transmittal No. 24-23

Notice of Proposed Issuance of Letter of Offer Pursuant to Section 36(b)(1) of the Arms Export Control Act, as amended

(i) Prospective Purchaser: Government of Croatia

(ii) Total Estimated Value:

Major Defense Equipment * | $250 million
Other | $250 million
TOTAL | $500 million

Funding Source: Foreign Military Financing and National Funds

(iii) Description and Quantity or Quantities of Articles or Services under Consideration for Purchase:

Major Defense Equipment (MDE):

Eight (8) UH-60M Black Hawk helicopters

Nineteen (19) T700-GE 701D engines (16 installed, 3 spares)

Twenty (20) AN/ARC-231A RT-1987 very high frequency (VHF)/ultra high frequency (UHF)/Line of Sight (LOS) satellite communications (SATCOM) radios

Ten (10) AN/AAR-57 Counter Missile Warning Systems (CMWS)

Twenty (20) H-764U Embedded Global Position Systems with Inertial Navigation (EGI) and Selective Availability Anti-Spoofing Module (SAASM) (or future replacement)

Eighteen (18) M240H machine guns

Non-MDE:

Also included are: AN/ARC-231 RT-1808A (or future replacement) VHF/UHF/LOS SATCOM radios; APR-39C(V)1/4 radar warning receivers; AVR-2B laser detecting sets; APX-123A Identification Friend or Foe (IFF) transponders (or future replacement); ARC-220 high frequency (HF) radio with KY-100M; VRC-100 ground stations; AN/PYQ-10 Simple Key Loader (SKL); KIV-77 Common Identification Friend or Foe (IFF) crypto applique computers; KY-100M; communications security (COMSEC) encryption devices AN/ARN-147(V) VHF Omni-Directional Range (VOR)/instrument landing system (ILS) receiver radio; AN/ARN-149(V) low frequency (LF)/automatic direction finder (ADF) radio receiver; AN/ARN-153 tactical air navigation system (TACAN) receiver-transmitter; AN/APN-209 radar altimeter; AN/ARC-210 radios; EBC-406HM emergency locator transmitter (ELT); Encrypted Aircraft Wireless Intercommunications Systems (EAWIS); Improved Heads-Up Display (IHUD); signal data converters for IHUD; signal data converters for heads-up display (HUD); forward-looking infrared (FLIR) with electro-optical and infrared (E.O./IR) capabilities; E.O./IR cabin monitoring systems; E.O./IR digital video recorder; AN/ARC-201D RT-1478D (or future replacement); Enhanced Ballistic Armor Protection Systems (EBAPS); Internal Auxiliary Fuel Tank Systems (IAFTS); Fast Rope Insertion & Extraction System (FRIES); External Rescue Hoist (ERH); rescue hoist equipment sets; Dual Patient Litter System (DPLS) Sets; Martin Baker palletized Crew Chief/Gunner seats with crashworthy floor structural modifications; External Stores Support System (ESSS); Integrated Tow Plates Production Assets; universal software loading kits; 60k volt-ampere (VA) generator kits; instrument panel sets; external gun mount systems; Black Hawk Aircrew Trainer (BAT); Black Hawk Maintenance Trainer (BHMT-M); Black Hawk Avionics Trainer; Maintenance Blended Reconfigurable Avionics Trainer (MBRAT); training devices; helmets; transportation; organizational equipment; spare and repair parts; support equipment; tools and test equipment; technical data and publications; personnel training and training equipment; United States (U.S.) government and contractor engineering, technical, and logistics support services; and other related elements of logistics and program support.

(iv) Military Department: Army (HR-B-UCH)

(v) Prior Related Cases, if any: 7L-B-UGK, HR-B-UBQ, HR-B-UBT

(vi) Sales Commission, Fee, etc., Paid, Offered, or Agreed to be Paid: None

(vii) Sensitivity of Technology Contained in the Defense Article or Defense Services Proposed to be Sold: See Attached Annex

(viii) Date Report Delivered to Congress: January 26, 2024

*As defined in Section 47(6) of the Arms Export Control Act.

POLICY JUSTIFICATION

Croatia—UH-60M Black Hawk Helicopters

The Government of Croatia has requested to buy eight (8) UH-60M Black Hawk helicopters; nineteen (19) T700-GE 701D engines (16 installed, 3 spares); twenty (20) AN/ARC-231A RT-1987 very high frequency (VHF)/ultra high frequency (UHF)/Line of Sight (LOS) satellite communications (SATCOM) radios; ten (10) AN/AAR-57 Counter Missile Warning Systems (CMWS); twenty (20) H-764U Embedded Global Position Systems with Inertial Navigation (EGI) and Selective Availability Anti-Spoofing Module (SAASM) (or future replacement); and eighteen (18) M240H machine guns. Also included are: AN/ARC-231 RT-1808A (or future replacement) VHF/UHF/LOS SATCOM radios; APR-39C(V)1/4 radar warning receivers; AVR-2B laser detecting sets; APX-123A Identification Friend or Foe (IFF) transponders (or future replacement); ARC-220 high frequency (HF) radio with KY-100M; VRC-100 ground stations; AN/PYQ-10 Simple Key Loader (SKL); KIV-77 Common Identification Friend or Foe (IFF) crypto applique computers; KY-100M; communications security (COMSEC) encryption devices AN/ARN-147(V) VHF Omni-Directional Range (VOR)/instrument landing system (ILS) receiver radio; AN/ARN-149(V) low frequency (LF)/automatic direction finder (ADF) radio receiver; AN/ARN-153 tactical air navigation system (TACAN) receiver-transmitter; AN/APN-209 radar altimeter; AN/ARC-210 radios; EBC-406HM emergency locator transmitter (ELT); Encrypted Aircraft Wireless Intercommunications Systems (EAWIS); Improved Heads-Up Display (IHUD); signal data converters for IHUD; signal data converters for heads-up display (HUD); forward-looking infrared (FLIR) with electro-optical and infrared (E.O./IR) capabilities; E.O./IR cabin monitoring systems; E.O./IR digital video recorder; AN/ARC-201D RT-1478D (or future replacement); Enhanced Ballistic Armor Protection Systems (EBAPS); Internal Auxiliary Fuel Tank Systems (IAFTS); Fast Rope Insertion & Extraction System (FRIES); External Rescue Hoist (ERH); rescue hoist equipment sets; Dual Patient Litter System (DPLS) Sets; Martin Baker palletized Crew Chief/Gunner seats with crashworthy floor structural modifications; External Stores Support System (ESSS); Integrated Tow Plates Production Assets; universal software loading kits; 60k volt-ampere (VA) generator kits; instrument panel sets; external gun mount systems; Black Hawk Aircrew Trainer (BAT); Black Hawk Maintenance Trainer (BHMT-M); Black Hawk Avionics Trainer; Maintenance Blended Reconfigurable Avionics Trainer (MBRAT); training devices; helmets; transportation; organizational equipment; spare and repair parts; support equipment; tools and test equipment; technical data and publications; personnel training and training equipment; U.S. government and contractor engineering, technical, and logistics support services; and other related elements of logistics and program support. The estimated total cost is $500 million.

This proposed sale will support the foreign policy and national security of the U.S. by improving the security of a NATO Ally that continues to be an important force for political stability and economic progress in Europe.

The proposed sale will improve Croatia's capability to deter current and future threats and support coalition operations as well as promote interoperability with the U.S. and other NATO forces. Croatia will have no difficulty absorbing this equipment into its armed forces.

The principal contractor will be Lockheed Martin/Sikorsky, in Stratford, CT. There are no known offset agreements in connection with this potential sale.

Implementation of this proposed sale will require approximately fifteen (15) U.S. Government and/or fifteen (15) contractor representatives to travel to Croatia for an extended period for equipment de-processing/fielding, system checkout, training, and technical and logistics support.

There will be no adverse impact on U.S. defense readiness as a result of this proposed sale.

Transmittal No. 24-23

Notice of Proposed Issuance of Letter of Offer Pursuant to Section 36(b)(1) of the Arms Export Control Act

Annex

Item No. vii

(vii) Sensitivity of Technology:

1. The UH-60M aircraft is a medium lift four bladed aircraft which includes two (2) T-701D engines. The aircraft has four (4) Multifunction Displays (MFD), which provides aircraft system, flight, mission, and communication management systems. The instrumentation panel includes four (4) Multifunction Displays (MFDs), two (2) Pilot and Co-Pilot Flight Director Panels, and two (2) Data Concentrator Units (DCUs). The Navigation System will have Embedded Global Positioning System (GPS)/Inertial Navigation System (INS) (EGIs), and two (2) Advanced Flight Control Computer Systems (AFCC), which provide 4 axis aircraft control:

a. The AN/ARC-201 very high frequency (VHF)—frequency modulation (FM) (VHF-FM) Single Channel Ground and Airborne Radio System (SINCGARS) is a reliable, field-proven voice and data communication system used with the UH-60. A non-communications security (COMSEC) export variant of this radio that meets these requirements will be provided.

b. AN/ARC-231 RT-1808A (or future replacement) VHF/UHF/LOS satellite communications (SATCOM) Radios. The AN/ARC-231 is a software-definable radio for military aircraft that provides two-way, multi-mode voice and data communications over a 30 Hz to 512 MHz frequency range. It covers both line-of-sight ultra-high frequency (UHF) and VHF bands with amplitude modulation (AM), FM, and SATCOM capabilities.

c. The AN/ARC-231A is a software-definable radio for military aircraft that provides two-way, multi-mode voice and data communications over a 30 Hz to 512 MHz frequency range. No designated exportable, non-COMSEC capable version is planned. The AN/ARC-231A supports both line-of-sight UHF and VHF bands with AM, FM, and SATCOM capabilities. It also includes embedded frequency agile modes, Electronic Counter-Countermeasures (ECCM), anti-jam waveforms including Have Quick and Single Channel Ground and Airborne Radio System (SINCGARS), Demand Assigned Multiple Access (DAMA), and Integrated Waveform (IW). It provides simultaneous, real-time participation in tactical voice and data communications networks. The RT-1987 will provide National Security Agency (NSA) Tactical Secure Voice Cryptographic Interoperability Specification (TSVCIS) 3.1.1 crypto modernization compliance. Operator selectable air traffic control channel spacing of 5, 8.33, 12.5, and 25 kHz steps, and other data link and secure communications features, provide battlefield interoperability.

d. The AN/ARC-210 is a family of radios for military aircraft that provides two-way, multi-mode voice and data communications over a 30 to 512+ MHz frequency range. It covers both UHF and VHF bands with AM, FM, and SATCOM capabilities. The ARC-210 radio also includes embedded anti-jam waveforms, including Have Quick and SINCGARS, and other data link and secure communications features, providing total battlefield interoperability and high-performance capabilities in the transfer of data, voice, and imagery. The software-programmable encryption is under the NSA Cryptographic Modernization Initiative.

e. The AN/ARC-220 High Frequency (HF) Airborne Communication System provides rotary-wing aircraft with advanced voice and data capabilities for short-and long-distance communications. The system is software programmable with a frequency range of 2.0000-29.9999 MHz, in 100 Hz steps and provides for providing embedded automatic Link establishment (ALE), serial tone data modem, text messaging, GPS position reporting, and anti-jam (ECCM) functions.

f. The AN/APX-123A (or future replacement) Identification Friend or Foe (IFF) Transponder is a space diversity transponder and is installed on various military platforms. When installed in conjunction with platform antennas and the remote-control unit (or other appropriate control unit), the transponder provides identification, altitude, and surveillance reporting in response to interrogations from airborne, ground-based, and surface interrogators. The transponder will be classified SECRET if MODE IV, MODE 5, or MODE S fill is installed in the equipment with a crypto device. This item contains sensitive technology.

g. The VRC-100 HF Communication System is the ground station version of the AN/ARC-220 for use in Aviation Operation Centers. It provides for advanced voice and data capabilities for short-and long-distance communications. The system is software programmable with a frequency range of 2.0000-29.9999 MHz in 100 Hz steps and provides embedded Automatic Link Establishment (ALE), serial tone data modem, text messaging, GPS position reporting, and anti-jam (ECCM) functions. The system is purchased with all required mounts, amplifiers, antennas, power supplies, and accessories.

h. The AN/PYQ-10 Simple Key Loader (SKL) is a ruggedized, portable, hand-held fill device for securely receiving, storing, and transferring data between compatible cryptographic and communications equipment. The AN/PYQ-10(C) Simple Key Loader (SKL) will contain the KOV-21 COMSEC card, which is a Controlled Cryptographic Item (CCI). Cryptographic functions are performed by an embedded KOV-21 card developed by the NSA.

i. The KIV-77 Identification Friend or Foe (IFF) Crypto Applique provides cryptographic and time-of-day services for a Combined Interrogator/Transponder (CIT) or individual interrogator or transponder Mark XIIA (Mode 4 and Mode 5) IFF system deployed to identify cooperative, friendly systems. The KIV-77 contains embedded security, and when keys are loaded is classified up to Secret.

j. The KY-100M is a self-contained terminal including COMSEC that provides for secure voice and data communications in tactical airborne and ground environments. It is an integral part of U.S. Forces' and Federal law enforcement agencies' networks and provides half-duplex, narrowband, and wideband communications. Its flexible interfaces increase compatibility with a wide range of voice, data, radio, and satellite equipment. The KY can support Tier 1 crypto.

k. The AN/APR-39C(V)1/4 Radar Warning System detects radar-based rangefinders, target designators, and beam rider systems targeting an aircraft or vehicle. The APR-39 is a detection component of the suite of countermeasures designed to increase survivability of current generation combat aircraft and specialized special operations aircraft against the threat posed by laser designated or guided weapons. This item contains sensitive technology.

l. The AN/AVR-2B Laser Warning Receiver detects laser rangefinders, target designators, and beam rider laser-aided systems targeting an aircraft or vehicle. The AVR-2B is a detection component of the suite of countermeasures designed to increase survivability of current generation combat aircraft and specialized special operations aircraft against the threat posed by laser designated or guided weapons. This item contains sensitive technology.

m. The AAR-57 Common Missile Warning System (CMWS) is an integrated infrared (IR) countermeasures suite utilizing ultraviolet (UV) sensors to display accurate threat location and dispense countermeasures either automatically or under pilot or crew control to defeat incoming missile threats.

n. Embedded GPS/Inertial Navigation System INS (EGI) provides GPS and INS capabilities to the aircraft. The EGI will include Selective Availability Anti-Spoofing Module (SAASM) security modules to be used for secure GPS Precise Positioning Service (PPS) if required. The Embedded GPS/INS within the SAASM contains sensitive technology.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Croatia can provide substantially the same degree of protection for the sensitive technology being released as the U.S. Government. This sale is necessary in furtherance of the U.S. foreign policy and national security objectives outlined in the Policy Justification.

5. All defense articles and services listed in this transmittal are authorized for release and export to Croatia.

[FR Doc. 2024-31700 Filed 1-3-25; 8:45 am]

BILLING CODE 6001-FR-P